DEPARTMENT OF THE INTERIOR

National Park Service

[NPS-WASO-NRNHL-0311-7056; 2280-665]

National Register of Historic Places; Notification of Pending Nominations and Related Actions

Nominations for the following properties being considered for listing or related actions in the National Register were received by the National Park Service before March 26, 2011. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th Floor, Washington, DC 20005; or by fax, 202-371-6447. Written or faxed comments should be submitted by April 29, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/ National Historic Landmarks Program.

ALABAMA

Baldwin County

Malbis Plantation, 10145 US 90, Daphne, 11000238

COLORADO

Denver County

Saint Philomena Catholic Parish School, 940 Fillmore St., Denver, 11000239

Weld County

Von Gohren—Thompson Homestead—Gerry Farm Rural Historic Landscape, (Historic Farms and Ranches of Weld County MPS) Address Restricted, Greeley, 11000240

FLORIDA

Sarasota County

Chidsey Library, 701 N. Tamiami Trail, Sarasota, 11000241

ILLINOIS

Adams County

Quincy National Cemetery, (Civil War Era National Cemeteries MPS) 36th & Main Sts., Quincy, 11000242

Cook County

Sutherland Hotel, 4659 S. Drexel Blvd., Chicago, 11000243

Kane County

Hubbard, Joel H., House, 304 N. 2nd Ave., St. Charles, 11000244

Madison County

Alton National Cemetery, (Civil War Era National Cemeteries MPS) 600 Pearl St., Alton, 11000245

Winnebago County

Ziock Building, 416 S. Main St., Rockford, 11000246

MASSACHUSETTS

Norfolk County

Oak Grove Farm, 410 Exchange St., Millis, 11000247

MISSOURI

Jackson County

Locust Street Apartments, (Working-Class and Middle-Income Apartment Buildings in Kansas City, Missouri MPS) 3421 & 3425 Locust St., Kansas City, 11000249

St. Louis Independent City Hamilton Hotel, 956 Hamilton Ave., St. Louis (Independent City), 11000248

NEVADA

Storey County

Piper, Henry, House, 58 N. B St., Virginia City, 11000254

Washoe County

Galena Creek Schoolhouse, (School Buildings in Nevada MPS) 16000 Callahan Rd., Reno, 11000255

NEW JERSEY

Atlantic County

Risley School, 134 Cape May Ave., Ester Manor City, 11000256

NEW YORK

Clinton County

Heyworth—Mason Industrial Building, Mason Hill Rd., Peru, 11000250

Essex County

Crandall Marine Railway, 11 Dry Dock Ln., Ticonderoga, 11000251

Fulton County

Hotel Broadalbin, 59 W. Main St., Broadalbin, 11000252

Rensselaer County

Dickinson Hill Fire Tower, Fire Tower Rd., Grafton, 11000253

NORTH CAROLINA

McDowell County

Old Fort Commercial Historic District, Roughly bounded by E. Main, Spring, Commerce & W. Main Sts., Old Fort, 11000257

VIRGINIA

Albemarle County

Greenwood—Afton Rural Historic District, Roughly 5 to 7 mi. N. & S. of I-64, Greenwood—Afton, 11000258

WASHINGTON

Clallam County

Port Angeles Civic Historic District, 205, 215, 217 & 319 S. Lincoln St., Port Angeles, 11000259

WEST VIRGINIA

Hampshire County

Hook's Tavern, Jct. of US 50 & Smokey Hollow Rd., Capon Bridge, 11000260

North River Mills Historic District, Jct. Cnty. Rds. 45/20 & 4/2, North River Mills, 11000261

[FR Doc. 2011-9038 Filed 4-13-11; 8:45 am]

BILLING CODE 4312-51-P